DEPARTMENT OF THE TREASURY

Internal Revenue Service

Proposed Collection; Comment Request for Trust and Estate Income Tax Returns and Related Forms

AGENCY: Internal Revenue Service (IRS), Treasury.

ACTION: Notice and request for comments.

SUMMARY: The Internal Revenue Service, as part of its continuing effort to reduce paperwork and respondent burden, invites the general public and other Federal agencies to take this opportunity to comment on proposed and/or continuing information collections, as required by the Paperwork Reduction Act of 1995 (PRA). The IRS is soliciting comments on Trust and Estate Income Tax Returns and Related Forms.

DATES: Written comments should be received on or before November 12, 2024 to be assured of consideration.

ADDRESSES: Direct all written comments to Andres Garcia, Internal Revenue Service, Room 6526, 1111 Constitution Avenue NW, Washington, DC 20224, or by email pra.comments@irs.gov. Include 1545-0092 or Trust and Estate Income Tax Returns and Related Forms in the subject line.

FOR FURTHER INFORMATION CONTACT: Requests for additional information or copies of the form and instructions should be directed to Jason Schoonmaker at (801) 620-2128, Internal Revenue Service, Room 6526, 1111 Constitution Avenue NW, Washington, DC 20224, or through the internet, at jason.m.schoonmaker@irs.gov.

SUPPLEMENTARY INFORMATION:

Change in PRA Approval of Forms Used by Trusts and Estates

Under the PRA, OMB assigns a control number to each “collection of information” that it reviews and approves for use by an agency. A single information collection may consist of one or more forms, recordkeeping requirements, and/or third-party disclosure requirements. Under the PRA and OMB regulations, agencies have the discretion to seek separate OMB approvals for forms, recordkeeping requirements, and third-party reporting requirements or to combine any number of forms, recordkeeping requirements, and/or third-party disclosure requirements (usually related in subject matter) under one OMB Control Number. Agency decisions on whether to group individual requirements under a single OMB Control Number or to disaggregate them and request separate OMB Control Numbers are based largely on considerations of administrative practicality.

The PRA also requires agencies to estimate the burden for each collection of information. Accordingly, each OMB Control Number has an associated burden estimate. The burden estimates for each control number are displayed in (1) the PRA notices that accompany collections of information, (2) Federal Register notices such as this one, and (3) in OMB's database of approved information collections. If more than one form, recordkeeping requirement, and/or third-party disclosure requirement is approved under a single control number, then the burden estimate for that control number reflects the burden associated with all of the approved forms, recordkeeping requirements, and/or third-party disclosure requirements.

As described below under the heading “Updated Burden Estimate Methodology,” the IRS's currently accepted burden estimate methodology, referred to as the IRS Taxpayer Burden Model, is based on taxpayers' tax reporting experience taking into account, among other things, the forms and schedules used by those taxpayers and the recordkeeping and other activities needed to complete those forms. The transition of the trust and estate income tax reporting burden represents the IRS's continued effort to improve the ability of IRS to measure the burden imposed on various groups of taxpayers by the federal tax system. While the improved methodology provides a more accurate and comprehensive description of the trust and estate income tax reporting burden, it will not provide burden estimates on a form-by-form basis, as has been done under the previous methodology. When the prior model, known as the legacy Arthur D. Little (ADL) model was developed in the mid-1980s, almost all tax returns were prepared manually, either by the taxpayer or a paid provider. In this context, it was determined that estimating burden on a form-by-form, line-by-line basis was an appropriate methodology. Trust and estate income tax returns are increasingly being prepared using software or with preparer assistance. In this current reporting environment, in which many taxpayers' activities are no longer as directly associated with particular forms, estimating burden on a form-by-form basis is not an appropriate method of estimating taxpayer burden. The IRS Taxpayer Burden Model, which takes into account broader and more comprehensive taxpayer characteristics and activities, provides a much more accurate and useful estimate of taxpayer burden.

Currently, there are 152 forms and 27 regulations used by trust and estates pertaining to their income tax reporting requirements. These include Forms 1041, 1041 A, 1041 ES, 1041 ES (OCR), 1041 N, 1041 QFT, 1041 SCH D, 1041 SCH I, 1041 SCH J, 1041 SCH K-1, 1041 T, 1041 V, 172, 461, 926, 965 A, 982, 1040 SCH C, 1040 SCH E, 1040 SCH F, 1040 SCH H, 1045, 1065 SCH D, 1065 SCH K-2, 1116, 1116 SCH B, 1116 SCH C, 2210, 2210 F, 2439, 3115, 3468, 3800, 4136, 4255, 4562, 4684, 4797, 4952, 4970, 4972, 5227, 5329, 5471, 5471 SCH E, 5471 SCH G1, 5471 SCH H, 5471 SCH I1, 5471 SCH J, 5471 SCH M, 5471 SCH O, 5471 SCH P, 5471 SCH Q, 5471 SCH R, 5713, 5713 SCH B, 5713 SCH C, 5884, 5884 A, 6198, 6252, 6478, 6765, 6781, 7205, 7207, 7210, 7211, 7213, 7217, 7218, 8082, 8275, 8275 R, 8453 FE, 8582, 8582 CR, 8586, 8594, 8609 A, 8611, 8621, 8697, 8801, 8820, 8824, 8825, 8826, 8829, 8830, 8833, 8835, 8844, 8845, 8846, 8855, 8858, 8858 SCH M, 8864, 8865, 8865 SCH G, 8865 SCH H, 8865 SCH K-1, 8865 SCH K-2, 8865 SCH K-3, 8865 SCH O, 8865 SCH P, 8866, 8873, 8879 F, 8881, 8882, 8886, 8896, 8903, 8904, 8908, 8910, 8911, 8911 SCH A, 8912, 8918, 8932, 8933, 8933 SCH A, 8933 SCH B, 8933 SCH C, 8933 SCH D, 8933 SCH E, 8933 SCH F, 8936, 8938, 8941, 8949, 8960, 8978, 8978 SCH A, 8990, 8992, 8992 SCH A, 8994, 8995, 8995 A, 8995 A SCH A, 8995 A SCH B, 8995 A SCH C, 8995 A SCH D, 8997, 8582-CR, 8609-A, T, and their schedules (see the Appendix to this notice). For most of these forms, IRS has in the past obtained separate OMB approvals under unique OMB Control Numbers and separate burden estimates.

The IRS Taxpayer Burden Model methodology estimates the aggregate burden imposed on trusts and estates, based upon their reporting-related characteristics and activities. IRS therefore will seek OMB approval of all 152 trust and estate income tax forms as a single “collection of information.” The aggregate burden of these tax forms will be accounted for under OMB Control Number 1545-0092, which is currently assigned to Form 1041. OMB Control Number 1545-0092 will be displayed on all trust and estate income tax forms and related information collections. As a result of this change, burden estimates for trust and estate income taxes will now be displayed differently in PRA Notices on tax forms and other information collections, and in Federal Register notices. This new way of displaying burden is presented below under the heading “Proposed PRA Submission to OMB.”

Updated Burden Estimate Methodology

The IRS Taxpayer Burden Model methodology revises the estimates of the levels of burden experienced by trusts and estates when complying with their federal reporting requirements pertaining to income taxes. It replaces the legacy ADL model methodology developed in the mid-1980s. Since that time, improved technology and modeling sophistication have enabled the IRS to improve the burden estimates. The IRS Taxpayer Burden Model methodology provides taxpayers and the IRS with a more comprehensive understanding of the current levels of taxpayer burden. It reflects major changes over the past two decades in the way taxpayers prepare and file their returns. The IRS Taxpayer Burden Model methodology also represents a substantial step forward in the IRS's ability to assess likely impacts of administrative and legislative changes on trusts and estates.

The IRS Taxpayer Burden Model methodology focuses on the characteristics and activities of trusts and estates rather than solely focusing on the forms they file. Key determinants of taxpayer burden in the model are the type of trust or estate, the number of beneficiaries, level of the trust or estate's income, and the complexity of the trust or estate's income generated from assets and investments. Indicators of tax law and administrative complexity, as reflected in the tax forms and instructions, are incorporated into the model. Tax compliance burden does not include a taxpayer's tax liability, economic inefficiencies caused by sub-optimal choices related to tax deductions or credits, or psychological costs. The legacy ADL model methodology primarily focused on the number of line items of each tax form. The changes between the old and new burden estimates are due to the improved ability of the IRS Taxpayer Burden Model methodology to measure burden and the expanded scope of what is measured. These changes create a one-time shift in the estimate of imposed burden. It is important to note that the difference between the legacy ADL estimate and the IRS Taxpayer Burden Model estimate do not reflect any change in the actual burden imposed by taxpayers.

Methodology

Burden is defined as the time and out-of-pocket costs incurred by taxpayers to comply with their federal tax reporting responsibilities. As has been done for individual taxpayer burden since 2005, business entity burden since 2014, tax-exempt organization burden since 2018, and employer taxpayer burden since 2023, both the time expended and the out-of-pocket costs for trusts and estates are estimated. The IRS Taxpayer Burden Model methodology relies on surveys that gather data about time and out-of-pocket costs that trusts and estates spend on pre-filing and filing activities. The methodology establishes econometric relationships between tax return characteristics and reported compliance costs. The methodology controls for the substitution of time and money by monetizing time and reporting total compliance costs in dollars. This methodology better reflects taxpayer compliance burden, because in a world of electronic tax preparation, time and out-of-pocket costs are governed by the information required rather than the form on which it is ultimately reported. Importantly, even where various trusts and estates complete the same tax form lines, the new methodology differentiates the cost incurred to complete those forms based on characteristics of those trusts and estates. Key characteristics that serve as coefficients in the trust and estates reporting burden model are:

• Type of trust or estate

• Level of income

• Complexity of income and deductions

• Number of beneficiaries

The IRS Taxpayer Burden Model methodology is based on survey data collected using the following stratification for trusts and estates:

Form 1041 Strata
Fiduciary code | Income level
1 = Estate | <$5
| 5-999
| 1,000-4,999
| 5,000-24,999
| 25,000-74,999
| 75,000-149,999
| >=150,000
2 = Simple Trust | <5
| 5-999
| 1,000-4,999
| 5,000-24,999
| 25,000-74,999
| 75,000-149,999
| >=150,000
3 = Complex Trust | <5
| 5-999
| 1,000-4,999
| 5,000-24,999
| 25,000-74,999
| 75,000-149,999
| >=150,000
4 = Nontaxable Grantor Trust | Any
5 = Bankruptcy Trust Ch. 7 | Any
6 = Bankruptcy Trust Ch. 11 | Any
8 = Qualified Dividend Trust | <5
| >=5
9 = Pooled Investment Funds | <5
| >=5
Source: IRS:RAAS:KDA (08-23-2024).

Proposed PRA Submission to OMB

Title: Trust and Estate Income Tax Returns and related Forms.

OMB Number: 1545-0092.

Form Numbers: 1041, 1041 A, 1041 ES, 1041 ES (OCR), 1041 N, 1041 QFT, 1041 SCH D, 1041 SCH I, 1041 SCH J, 1041 SCH K-1, 1041 T, 1041 V, 172, 461, 926, 965 A, 982, 1040 SCH C, 1040 SCH E, 1040 SCH F, 1040 SCH H, 1045, 1065 SCH D, 1065 SCH K-2, 1116, 1116 SCH B, 1116 SCH C, 2210, 2210 F, 2439, 3115, 3468, 3800, 4136, 4255, 4562, 4684, 4797, 4952, 4970, 4972, 5227, 5329, 5471, 5471 SCH E, 5471 SCH G1, 5471 SCH H, 5471 SCH I1, 5471 SCH J, 5471 SCH M, 5471 SCH O, 5471 SCH P, 5471 SCH Q, 5471 SCH R, 5713, 5713 SCH B, 5713 SCH C, 5884, 5884 A, 6198, 6252, 6478, 6765, 6781, 7205, 7207, 7210, 7211, 7213, 7217, 7218, 8082, 8275, 8275 R, 8453 FE, 8582, 8582 CR, 8586, 8594, 8609 A, 8611, 8621, 8697, 8801, 8820, 8824, 8825, 8826, 8829, 8830, 8833, 8835, 8844, 8845, 8846, 8855, 8858, 8858 SCH M, 8864, 8865, 8865 SCH G, 8865 SCH H, 8865 SCH K-1, 8865 SCH K-2, 8865 SCH K-3, 8865 SCH O, 8865 SCH P, 8866, 8873, 8879 F, 8881, 8882, 8886, 8896, 8903, 8904, 8908, 8910, 8911, 8911 SCH A, 8912, 8918, 8932, 8933, 8933 SCH A, 8933 SCH B, 8933 SCH C, 8933 SCH D, 8933 SCH E, 8933 SCH F, 8936, 8938, 8941, 8949, 8960, 8978, 8978 SCH A, 8990, 8992, 8992 SCH A, 8994, 8995, 8995 A, 8995 A SCH A, 8995 A SCH B, 8995 A SCH C, 8995 A SCH D, 8997, 8582-CR, 8609-A, T, and associated schedules.

Abstract: These forms are used by trusts and estates to comply with their income tax reporting requirement. The data is used to verify that the items reported on the forms are correct.

Current Actions: The burden estimation methodology for trust and estate tax is being transitioned from the legacy Arthur D. Little (ADL) methodology to the IRS Taxpayer Burden Model. The changes discussed above result in a burden hour estimate of 69,000,000 hours, a decrease in total estimated time burden of 327,470,339 hours. The newly reported total out-of-pocket costs is $6,124,000,000 and total monetized burden is $11,164,000,000. The change related to the transition of the burden estimate from the legacy adl model methodology to the IRS Taxpayer Burden Model, is a one-time change. In addition, changes are being made to the forms to be current with enacted legislation.

Type of Review: Revision of currently approved collections.

Affected Public: Trusts and Estates.

Estimated Number of Respondents: 3,070,000.

Estimated Time per Respondent (Hours): 22 hours, 29 minutes.

Estimated Total Annual Time (Hours): 69,000,000 hours.

Estimated Total Annual Monetized Time ($): 5,040,000,000.

Estimated Annual Monetized Time per Respondent ($): 1,642.

Estimated Total Out-of-Pocket Costs ($): 6,124,000,000.

Estimated Out-of-Pocket Cost per Respondent ($): 1,995.

Estimated Total Monetized Burden ($): 11,164,000,000.

Estimated Monetized Burden per Respondent ($): 3,637.

Note: Total Monetized Burden = Total Out-of-Pocket Costs + Total Annual Monetized Time.

Fiscal Year (FY) 2025 Burden Total Estimates for Trust and Estate Income Tax Forms, Schedules, and Regulations
[FY25]
| FY23 to 24 | Program change due to adjustment | Program change due to new legislation | Program change due to agency | FY 25
Number of Respondents | * 19,120,534 | (16,050,534) | 0 | 0 | ** 3,070,000
Burden in Hours | 396,470,339 | (327,470,339) | 0 | 0 | 69,000,000
Monetized time Burden | $0 | $5,040,000,000 | $0 | $0 | $5,040,000,000
Out-of-Pocket Costs | $0 | $6,124,000,000 | $0 | $0 | $6,124,000,000
Total Monetized Burden *** | $0 | $11,164,000,000 | $0 | $0 | $11,164,000,000
Source: IRS:RAAS:KDA (07-08-2024).
* FY23 responses per year is a count of all forms and schedules filed under legacy ADL Model methodology.
** FY25 responses per year is a count of all taxpayers under the IRS Taxpayer Burden Model methodology. This approach is also used for OMB 1545-0074 (individuals), 1545-0123 (business entities), 1545-0029 (employment tax), and 1545-0047 (tax-exempt organizations).
*** Total monetized burden = Total Out-of-Pocket Costs + Total Annual Monetized Time Note: Reported time and cost burdens are national averages and do not necessarily reflect a “typical case.” Most taxpayers experience lower than average burden, with taxpayer burden varying considerably by taxpayer type. Detail may not add due to rounding.

The following additional breakouts of average burden are provided for transparency in understanding the average estimated burden experienced by taxpayers. Table 1 shows the average burden by filers of Form 1041. Table 2 shows the average burden by total income. Table 3 shows the average burden by the number of K-1s attached to the Form 1041.

Table 1—FY2025 Average Burden Projections by Entity Type
Entity type | Percent of filed Form 1041 ** | Average time (hrs.) | Average out-of-pocket costs | Average monetized burden
Simple Trust | 18 | 19 | $1,400 | $2,900
Complex Trust * | 55 | 22 | 2,000 | 3,800
Decedent Estate | 10 | 46 | 4,100 | 7,100
Grantor Trust | 16 | 12 | 1,500 | 1,900
Qualified Disability Trust | 1 | 19 | 800 | 1,900
Pooled Income Fund | <1 | 27 | 2,000 | 2,900
Source: IRS:RAAS:KDA (07-08-2024).
* The category of Complex Trusts includes Chapter 7 and Chapter 11 Bankruptcy Estates.
** Percentages based on Tax Year 2022 filings.

Table 2—FY2025 Average Burden Projections by Total Income *
Total Income | Average time (hrs.) | Average out-of-pocket costs | Average monetized burden
Table 2A—Simple Trusts
1. <$1 | 19 | $800 | $1,700
2. $1 to $5,000 | 19 | 900 | 1,800
3. $5,001 to $10,000 | 18 | 1,100 | 2,300
4. $10,001 to $50,000 | 17 | 1,400 | 2,900
5. >$50,000 | 25 | 2,700 | 5,600
Table 2B—Complex Trusts, Qualified Disability Trusts, Pooled Income Funds, Chapter 7 and 11 Bankruptcy Estates
1. <$1 | 19 | 900 | 1,700
2. $1 to $5,000 | 19 | 1,000 | 1,900
3. $5,001 to $10,000 | 18 | 1,300 | 2,500
4. $10,001 to $50,000 | 18 | 1,800 | 3,400
5. >$50,000 | 40 | 5,200 | 10,000
Table 2C—Decedent Estates
1. <$1 | 38 | 2,800 | 4,800
2. $1 to $5,000 | 48 | 3,100 | 5,300
3. $5,001 to $10,000 | 52 | 3,900 | 6,800
4. $10,001 to $50,000 | 49 | 5,100 | 8,900
5. >$50,000 | 52 | 8,100 | 14,100
Source: IRS:RAAS:KDA (07-08-2024).
* Grantor trusts are not reflected in this table because income from a grantor trust is generally reported on the grantor's tax return.

Table 3—FY2025 Average Burden Projections by Number of K-1s Attached *
Number of K-1s | Average time (hrs.) | Average out-of-pocket costs | Average monetized burden
Table 3A—Simple Trusts
0 | 16 | $900 | $1,900
1-5 | 19 | 1,400 | 2,900
6-10 | 33 | 2,600 | 5,500
>10 | 47 | 5,000 | 10,400
Table 3B—Complex Trusts, Qualified Disability Trusts, Pooled Income Funds, Ch. 7 and 11 Bankruptcy Estates
0 | 19 | 1,300 | 2,500
1-5 | 23 | 2,300 | 4,400
6-10 | 39 | 4,200 | 8,100
>10 | 60 | 7,700 | 14,600
Table 3C—Decedent Estates
0 | 41 | 3,200 | 5,600
1-5 | 49 | 4,700 | 8,200
6-10 | 57 | 6,600 | 11,400
>10 | 68 | 9,000 | 15,700
Source: IRS:RAAS:KDA (07-08-2024).
* Grantor trusts are not reflected in this table because they do not use Schedule K-1s. See Instructions to Form 1041, https://www.irs.gov/instructions/i1041.

Request for Comments

Comments submitted in response to this notice will be summarized and/or included in the request for OMB approval. All comments will become a matter of public record. Comments are invited on: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: September 5, 2024.
Jason M. Schoonmaker,
Tax Analyst.

Appendix A

Form | Title/description | OMB No.
1041 | U.S. Income Tax Return for Estates and Trusts | 1545-0092
1041-A | U.S. Information Return Trust Accumulation of Charitable Amounts | 1545-0094
1041-ES | Estimated Tax for Estates and Trusts | 1545-0971
1041-ES (OCR) | Estimated Tax Vouchers Package 1041ES (OCR) 2017 | 1545-0971
1041-N | U.S. Income Tax Return for Electing Alaska Native Settlement | 1545-1776
1041-QFT | U.S. Income Tax Return for Qualified Funeral Trusts | 1545-1593
1041-SCH D | Capital Gains and Losses | 1545-0092
1041 SCH I | Alternative Minimum Tax-Estates and Trusts | 1545-0092
1041 SCH J | Accumulation Distribution for Certain Complex Trusts | 1545-0092
1041 SCH K-1 | Beneficiary's Share of Income, Deductions, Credits, etc | 1545-0092
1041-T | Allocation of Estimated Tax Payments to Beneficiaries (Under Code section 643(g)) | 1545-1020
1041-V | Payment Voucher | 1545-0092
5227 | Split-Interest Trust Information Return | 1545-0196
172 | Net Operating Losses (NOLs) for Individuals, Estates, and Trusts | 1545-0074
461 | Limitation on Business Losses | 1545-2283
926 | Return by a U.S. Transferor of Property to a Foreign Corporation | 1545-0026
965-A | Form 965-A, Individual Report of Net 965 Tax Liability | 1545-0074
982 | Reduction of Tax Attributes Due to Discharge of Indebtedness (And Section 1082 Basis Adjustment) | 1545-0046
1040 SCH C | Profit or Loss from Business (Sole Proprietorship) | 1545-0074
1040 SCH E | Supplemental Income and Loss | 1545-0074
1040 SCH F | Profit or Loss from Farming | 1545-0074
1040 SCH H | Household Employment Taxes | 1545-0074
1045 | Application for Tentative Refund | 1545-0098
1065 SCH D | Capital Gains and Losses | 1545-0123
1065 SCH K-2 | Partners Distributive Share Items—International | 1545-0123
1116 | Foreign Tax Credit | 1545-0121
1116 SCH B | Foreign Tax Credit | 1545-0121
1116 SCH C | Foreign Tax Credit | 1545-0121
2210 | Underpayment of Estimated Tax by Individuals, Estates and Trusts | 1545-0140
2210-F | Underpayment of Estimated Tax by Farmers and Fisherman | 1545-0140
2439 | Notice to Shareholder of Undistributed Long-Term Capital Gains | 1545-0123
3115 | Application for Change in Accounting Method | 1545-2070
3468 | Investment Credit | 1545-0074
3800 | General Business Credit | 1545-0895
4136 | Credit for Federal Tax Paid on Fuels | 1545-0162
4255 | Recapture of Investment Credit | 1545-0166
4562 | Depreciation and Amortization (Including Information on Listed Property) | 1545-0172
4684 | Casualties and Thefts | 1545-0177
4797 | Sales of Business Property | 1545-0184
4952 | Investment Interest Expense Deduction | 1545-0191
4970 | Tax on Accumulation Distribution of Trusts | 1545-0192
4972 | Tax on Lump-Sum Distributions | 1545-0193
5227 | Split-Interest Trust Information Return | 1545-0196
5329 | Additional Taxes on Qualified Plans (Including IRAs) and Other Tax-Favored Accounts | 1545-0123
5471 | Information Return of U.S. Persons With Respect to Certain Foreign Corporations | 1545-0123
5471 SCH E | Income, War Profits, and Excess Profits Taxes Paid or Accrued | 1545-0123
5471 SCH G1 | Cost Sharing Arrangement | 1545-0123
5471 SCH H | Current Earnings and Profits | 1545-0123
5471 SCH I1 | Information for Global Intangible Low-Taxed Income | 1545-0123
5471 SCH J | Accumulated Earnings and Profits (E&P) of Controlled Foreign Corporation | 1545-0123
5471 SCH M | Transactions Between Controlled Foreign Corporation and Shareholders or Other Related Persons | 1545-0123
5471 SCH O | Organization or Reorganization of Foreign Corporation and Acquisitions and Dispositions of its Stock | 1545-0123
5471 SCH P | Previously Taxed Earnings and Profits of U.S. Shareholder of Certain Foreign Corporations | 1545-0123
5471 SCH Q | CFC Income by CFC Income Groups | 1545-0123
5471 SCH R | Form 5471 Schedule R | 1545-0123
5713 | International Boycott Report | 1545-0216
5713 SCH B | Specifically Attributable Taxes and Income (Section 999(c)(2)) | 1545-0216
5713 SCH C | Tax Effect of The International Boycott Provisions | 1545-0216
5884 | Work Opportunity Credit | 1545-0219
5884-A | Employee Retention Credit for Employers Affected by Qualified Disasters | 1545-1978
6198 | At-Risk Limitations | 1545-0712
6252 | Installment Sale Income | 1545-0228
6478 | Biofuel Producer Credit | 1545-0231
6765 | Credit for Increasing Research Activities | 1545-0619
6781 | Gains and Losses from Section 1256 Contracts and Straddles | 1545-0644
7205 | Energy Efficient Commercial Buildings Deduction | 1545-2004
7207 | Advanced Manufacturing Production Credit | 1545-2306
7210 | Clean Hydrogen Production Credit | 1545-2321
7211 | Clean Electricity Production Credit | New Form
7213 | Nuclear Power Production Credit | 1545-0123
7217 | Distributions From a Partnership of Property With Partner Basis Adjustments | New Form
7218 | Clean Fuel Production Credit | New Form
8082 | Notice of Inconsistent Treatment or Administrative Adjustment Request (AAR) | 1545-0074
8275 | Disclosure Statement | 1545-0889
8275-R | Regulation Disclosure Statement | 1545-0889
8453-FE | U.S. Estate or Trust Income Tax Declaration and Signature for Electronic Filing | 1545-0967
8582 | Passive Activity Loss Limitations | 1545-1008
8582-CR | Passive Activity Credit Limitations | 1545-1034
8586 | Low-Income Housing Credit | 1545-0984
8594 | Asset Acquisition Statement | 1545-0074
8609-A | Annual Statement for Low-Income Housing Credit | 1545-0988
8611 | Recapture of Low-Income Housing Credit | 1545-1035
8621 | Return by a Shareholder of a Passive Foreign Investment Co. or Qualified Electing Fund | 1545-1002
8697 | Interest Computation Under the Look-Back Method for Completed Long-Term Contracts | 1545-1031
8801 | Credit For Prior Year Minimum Tax—Individuals, Estates, and Trusts | 1545-1073
8820 | Orphan Drug Credit | 1545-1505
8824 | Like-Kind Exchanges | 1545-1190
8825 | Rental Real Estate Income and Expenses of a Partnership or an S Corporation | 1545-0123
8826 | Disabled Access Credit | 1545-1205
8829 | Expenses for Business Use of Your Home | 1545-0074
8830 | Enhanced Oil Recovery Credit | 1545-1292
8833 | Treaty-Based Return Position Disclosure Under Section 6114 or 7701(b) | 1545-1354
8835 | Renewable Electricity Production Credit | 1545-1362
8844 | Empowerment Zone Employment Credit | 1545-1444
8845 | Indian Employment Credit | 1545-0123
8846 | Credit for Employer Social Security and Medicare Taxes Paid on Certain Employee Tips | 1545-0123
8855 | Election To Treat a Qualified Revocable Trust as Part of an Estate | 1545-1881
8858 | Information Return of U.S. Persons With Respect to Disregarded Entities (FDEs) and Foreign Branches (FBs) | 1545-1910
8858 SCH M | Transactions Between Foreign Disregarded Entity (FDE) or Foreign Branch (FB) and the Filer or Other Related Entities | 1545-1910
8864 | Biodiesel, Renewable Diesel, or Sustainable Aviation Fuels Credit | 1545-1924
8865 | Return of U.S. Persons With Respect to Certain Foreign Partnerships | 1545-1668
8865 SCH G | Statement of Application for the Gain Deferral Method Under Section 721(c) | 1545-1668
8865 SCH H | Acceleration Events and Exceptions Reporting Relating to Gain Deferral Method Under Section 721(c) | 1545-1668
8865 SCH K-1 | Partner's Share of Income, Deductions, Credits, etc. (Schedule K-1 (Form 8865)) | 1545-1668
8865 SCH K-2 | Schedule K-2 (Form 8865), Partners' Distributive Share Items—International | 1545-1668
8865 SCH K-3 | Partner's Share of Income, Deductions, Credits, etc.—International | 1545-1668
8865 SCH O | Transfer of Property to a Foreign Partnership | 1545-1668
8865 SCH P | Acquisitions, Dispositions, and Changes of Interests in a Foreign Partnership | 1545-1668
8866 | Interest Computation Under the Look-Back Method for Property Depreciated Under the Income Forecast Method | 1545-1622
8873 | Extraterritorial Income Exclusion | 1545-1722
8879-F | U.S. Estate or Trust Declaration for an IRS e-file Return | 1545-0967
8881 | Credit for Small Employer Pension Plan Startup Costs | 1545-1810
8882 | Credit for Employer-Provided Child Care Facilities and Services | 1545-1809
8886 | Reportable Transaction Disclosure Statement | 1545-1800
8896 | Low Sulfur Diesel Fuel Production Credit | 1545-1914
8903 | Domestic Production Activities Deduction | 1545-1984
8904 | Credit for Oil and Gas Production From Marginal Wells | 1545-2278
8908 | Energy Efficient Home Credit | 1545-1979
8910 | Alternative Motor Vehicle Credit | 1545-1998
8911 | Alternative Fuel Vehicle Refueling Property Credit | 1545-0123
8911 SCH A | Alternative Fuel Vehicle Refueling Property Credit Amount | New Form
8912 | Credit to Holders of Tax Credit Bonds | 1545-2025
8918 | Material Advisor Disclosure Statement | 1545-0865
8932 | Credit for Employer Differential Wage Payments | 1545-2126
8933 | Carbon Oxide Sequestration Credit | 1545-2132
8933 SCH A | Disposal or Enhanced Oil Recovery Owner Certification | New Form
8933 SCH B | Disposal Operator Certification | New Form
8933 SCH C | Enhanced Oil Recovery Operator Certification | New Form
8933 SCH D | Recapture Certification | New Form
8933 SCH E | Election Certification | New Form
8933 SCH F | Utilization Certification | New Form
8936 | Clean Vehicle Credits | 1545-0074
8938 | Statement of Specified Foreign Financial Assets | 1545-2195
8941 | Credit for Small Employer Health Insurance Premiums | 1545-2198
8949 | Sales and Other Dispositions of Capital Assets | 1545-0074
8960 | Net Investment Income Tax-Individuals, Estates, and Trusts | 1545-2227
8978 | Partner's Additional Reporting Year Tax | 1545-0123
8978 SCH A | Partners Additional Reporting Year Tax | 1545-0123
8990 | Limitation on Business Interest Expense Under Section 163(j) | 1545-0123
8992 | U.S Shareholder Calculation of Global Intangible Low-Taxed Income (GILTI) | 1545-0123
8992 SCH A | Schedule A, for Global Intangible Low-Taxed Income (GILTI) | 1545-0123
8994 | Employer Credit for Paid Family and Medical Leave | 1545-2282
8995 | Qualified Business Income Deduction Simplified Computation | 1545-2294
8995-A | Qualified Business Income Deduction | 1545-2294
8995-A SCH A | Specified Service Trades or Businesses | 1545-2294
8995-A SCH B | Aggregation of Business Operations | 1545-2294
8995-A SCH C | Loss Netting and Carryforward | 1545-2294
8995-A SCH D | Special Rules for Patrons of Agricultural or Horticultural Cooperatives | 1545-2294
8997 | Initial and Annual Statement of Qualified Opportunity Fund (QOF) Investments | 1545-0123
8582-CR | Passive Activity Credit Limitations | 1545-1034
8609-A | Annual Statement for Low-Income Housing Credit | 1545-0988
T | Forest Activities | 1545-0007
* 1545-0074 will not be discontinued it will be the number assigned to all Forms within the individual tax collection.
* 1545-0123 will not be discontinued. It is the business collection and 8922 will be included in both the Business collection and the Employment Tax collection.
* 1545-0029 will not be discontinued it will be the number assigned to all Forms within the employment tax collection.
* 1545-0092 will not be discontinued it will be the number assigned to all Forms within the trust and estate income tax collection.

Appendix B

Guidance title/description | OMB No.
Revenue Procedure 2009-20: Safe harbor treatment for taxpayers that experienced losses in certain investment arrangements discovered to be criminally fraudulent | 1545-0092
Revenue Procedure 2009-26: Examination of returns and claims for refund, credit or abatement; determination of correct tax liability | 1545-0092
Revenue Procedure 2009-52: Examination of returns and claims for refund, credit or abatement; determination of correct tax liability | 1545-0092
Revenue Procedure 2019-38: Trade or Business | 1545-0092
TD 9846: Regulations Regarding the Transition Tax Under Section 965 and Related Provisions | 1545-2280
TD 9847: Qualified Business Income Deduction | 1545-0092
TD 9902: Guidance Under Sections 951A and 954 Regarding Income Subject to a High Rate of Foreign Tax | 1545-0092
TD 9918: Effect of Section 67(g) on Trusts and Estates | 1545-0092
TD 9922: Guidance Related to the Allocation and Apportionment of Deductions and Foreign Taxes, Foreign Tax Redeterminations, Foreign Tax Credit Disallowance Under Section 965(g), Consolidated Groups, Hybrid Arrangements and Certain Payments Under Section 951A | 1545-1056
TD 9936: Guidance on Passive Foreign Investment Companies | 1545-0092
TD 9945: Guidance Under Section 1061 | 1545-0092
TD 9959: Guidance Related to the Foreign Tax Credit; Clarification of Foreign-Derived Intangible Income | 1545-2296
TD 9998: Increased Amounts of Credit or Deduction for Satisfying Certain Prevailing Wage and Registered Apprenticeship Requirements | 1545-2315

[FR Doc. 2024-20407 Filed 9-9-24; 8:45 am]

BILLING CODE 4830-01-P